DEPARTMENT OF LABOR

Occupational Safety and Health Administration

[Docket No. OSHA-2014-0028]

Whistleblower Protection Advisory Committee (WPAC)

AGENCY: Occupational Safety and Health Administration (OSHA), Labor.

ACTION: Announcement of a meeting of WPAC.

SUMMARY: WPAC will meet April 20 and 21, 2015, in Washington, DC.

DATES:

WPAC meeting: WPAC will meet from 1 p.m. to 4 p.m., E.T., Monday, April 20, 2015 and 9 a.m. to 4 p.m., E.T., Tuesday, April 21, 2015.

Written comments, requests to speak, speaker presentations, and requests for special accommodation: You must submit (postmark, send, transmit) comments, requests to address the WPAC meeting, speaker presentations (written or electronic), and requests for special accommodations for the WPAC meeting by April 6, 2015.

ADDRESSES:

WPAC meeting: WPAC will meet in Room S-4215 A-C, U.S. Department of Labor, 200 Constitution Avenue NW., Washington, DC 20210.

Submission of comments, requests to speak, and speaker presentations: You may submit comments, requests to speak at the WPAC meeting, and speaker presentations using one of the following methods:

Electronically: You may submit materials, including attachments, electronically at http://www.regulations.gov, which is the Federal eRulemaking Portal. Follow the on-line instructions for submissions.

Facsimile (Fax): If your submission, including attachments, does not exceed 10 pages, you may fax it to the OSHA Docket Office at (202) 693-1648.

Regular mail, express mail, hand delivery, or messenger (courier) service: You may submit your materials to the OSHA Docket Office, Docket No. OSHA-2014-0028, Room N-2625, U.S. Department of Labor, 200 Constitution Avenue NW., Washington, DC 20210; telephone (202) 693-2350 (TTY (877) 889-5627). OSHA's Docket Office accepts deliveries (hand deliveries, express mail, and messenger service) during normal business hours, 8:15 a.m.-4:45 p.m., E.T., weekdays.

Requests for special accommodations: Please submit any requests for special accommodations to attend the WPAC meeting to Ms. Gretta Jameson, OSHA, Office of Communications, Room N-3647, U.S. Department of Labor, 200 Constitution Avenue NW., Washington, DC 20210; telephone (202) 693-1999; email jameson.grettah@dol.gov.

Instructions: Your submissions must include the agency name and docket number for this Federal Register notice (Docket No. OSHA-2014-0028). Due to security-related procedures, submissions by regular mail may experience significant delays. Please contact the OSHA Docket Office for information about security procedures for making submissions. For additional information on submitting comments, requests to speak, and speaker presentations, see the SUPPLEMENTARY INFORMATION section of this notice.

FOR FURTHER INFORMATION CONTACT:

For press inquiries: Mr. Frank Meilinger, Director, OSHA Office of Communications, Room N-3647, U.S. Department of Labor, 200 Constitution Avenue NW., Washington, DC 20210; telephone (202) 693-1999; email meilinger.francis2@dol.gov.

For general information about WPAC and WPAC meetings: Mr. Anthony Rosa, OSHA, Directorate of Whistleblower Protection Programs, Room N-4618, U.S. Department of Labor, 200 Constitution Avenue NW., Washington, DC 20210; telephone (202) 693-2199; email osha.dwpp@dol.gov.

SUPPLEMENTARY INFORMATION:

WPAC Meeting

WPAC will meet Monday, April 20, 2015, and Tuesday, April 21, 2015, in Washington, DC. WPAC meetings are open to the public.

The tentative agenda of the WPAC meeting includes:

Remarks from the Assistant Secretary of Labor for Occupational Safety and Health (OSHA);

Public comments (April 20); and

Best Practices and Corporate Culture Work Group's presentation (April 21).

OSHA transcribes WPAC meetings and prepares detailed minutes of the meetings. OSHA places the meeting transcripts and minutes in the public record of the WPAC meeting. The public record also includes Work Group reports, speaker presentations, comments and other materials submitted to WPAC.

Public Participation, Submissions, and Access to Public Record

WPAC meetings: All WPAC meetings are open to the public. Individuals attending meetings at the U.S. Department of Labor must enter the building at the visitors' entrance, 3rd and C Streets NW., and pass through building security. Attendees must have valid government-issued photo identification (such as a driver's license) to enter the building. For additional information about building security measures for attending WPAC meetings, please contact Ms. Jameson (see ADDRESSES section).

Individuals needing special accommodations to attend the WPAC meeting should contact to Ms. Jameson as well.

Submission of written comments: You may submit written comments regarding best practices for protecting whistleblowers and preventing retaliation using one of the methods identified in the ADDRESSES section. Your submissions must include the Agency name and docket number for this WPAC meeting (Docket No. OSHA-2014-0028). OSHA will provide copies of submissions to WPAC members.

Because of security-related procedures, submissions by regular mail may experience significant delays. For information about security procedures for submitting materials by hand delivery, express mail, and messenger or courier service, please contact the OSHA Docket Office (see ADDRESSES section).

Requests to speak and speaker presentations: If you want to address WPAC regarding best practices at the meeting you must submit your request to speak, as well as any written or electronic presentation, by April 6, 2015, using one of the methods listed in the ADDRESSES section. Your request must state:

• The amount of time requested to speak;

• The interest you represent (e.g., business, organization, affiliation), if any; and

• A brief outline of your presentation.

The WPAC Chair may grant requests to address WPAC as time and circumstances permit.

Public docket of the WPAC meeting: OSHA will place comments, requests to speak, and speaker presentations, including any personal information you provide, in the public docket of this WPAC meeting without change, and those documents may be available online at http://www.regulations.gov. Therefore, OSHA cautions you about submitting personal information such as Social Security numbers and birthdates.

OSHA also places in the public docket the meeting transcript, meeting minutes, documents presented at the WPAC meeting, and other documents pertaining to the WPAC meeting. These documents are available online at http://www.regulations.gov under Docket No. OSHA-2014-0028.

Access to the public record of WPAC meetings: To read or download documents in the public docket of this WPAC meeting, go to Docket No. OSHA-2014-0028 at http://www.regulations.gov. The http://www.regulations.gov index also lists all documents in the public record for this meeting; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, also are available on the Directorate of Whistleblower Protections Programs Web page at http://www.whistleblowers.gov.

Authority and Signature

David Michaels, Ph.D., MPH, Assistant Secretary of Labor for Occupational Safety and Health, authorized the preparation of this notice under the authority granted by 5 U.S.C. App. 2, 41 CFR part 102-3, chapter 1600 of Department of Labor Management Series 3 (Mar. 17, 2008), 77 FR 3912 (Jan. 25, 2012), and the Secretary of Labor's authority to administer the whistleblower provisions found in 29 U.S.C. 660(c), 49 U.S.C. 31105, 15 U.S.C. 2651, 46 U.S.C. 80507, 42 U.S.C. 300j-9(i), 33 U.S.C. 1367, 15 U.S.C. 2622, 42 U.S.C. 6971, 42 U.S.C. 7622, 42 U.S.C. 9610, 42 U.S.C. 5851, 49 U.S.C. 42121, 18 U.S.C. 1514A, 49 U.S.C. 60129, 49 U.S.C. 20109, 6 U.S.C. 1142, 15 U.S.C. 2087, 29 U.S.C. 218c, 12 U.S.C. 5567, 46 U.S.C. 2114, 21 U.S.C. 399d, and 49 U.S.C. 30171.

Signed at Washington, DC, on March 24, 2015.
David Michaels,
Assistant Secretary of Labor for Occupational Safety and Health.

[FR Doc. 2015-07075 Filed 3-26-15; 8:45 am]

BILLING CODE 4510-26-P